DEPARTMENT OF ENERGY

Federal Energy Regulatory Commission

Combined Notice of Filings #2

Take notice that the Commission received the following electric rate filings:

Docket Numbers: ER12-1179-004.

Applicants: Southwest Power Pool, Inc.

Description: Southwest Power Pool, Inc. submits Informational Filing of Integrated Marketplace Readiness Metrics and Reversion Plan in compliance with the October 18, 2012 order.

Filed Date: 3/25/13.

Accession Number: 20130325-5211.

Comments Due: 5 p.m. ET 4/15/13.

Docket Numbers: ER13-1169-000.

Applicants: Midwest Independent Transmission System Operator, Inc.

Description: Midwest Independent Transmission System Operator, Inc. submits 2013-03-27 Attachment MM Clean Up to be effective 6/1/2013.

Filed Date: 3/27/13.

Accession Number: 20130327-5098.

Comments Due: 5 p.m. ET 4/17/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 27, 2013.
Nathaniel J. Davis, Sr.,
Deputy Secretary.

[FR Doc. 2013-08060 Filed 4-5-13; 8:45 am]

BILLING CODE 6717-01-P